DEPARTMENT OF THE INTERIOR

National Park Service

[NPS-WASO-NAGPRA-NPS0040400; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), the Sonoma State University has completed an inventory of human remains and associated funerary objects and has determined that there is a cultural affiliation between the human remains and associated funerary objects and Indian Tribes or Native Hawaiian organizations in this notice.

DATES: Repatriation of the human remains and associated funerary objects in this notice may occur on or after July 17, 2025.

ADDRESSES: Send written requests for repatriation of the human remains and associated funerary objects in this notice to Doshia Dodd, Sonoma State University, 1801 East Cotati Avenue, Rohnert Park, CA 94928, email Doshia.dodd@sonoma.edu.

SUPPLEMENTARY INFORMATION: This notice is published as part of the National Park Service's administrative responsibilities under NAGPRA. The determinations in this notice are the sole responsibility of the Sonoma State University, and additional information on the determinations in this notice, including the results of consultation, can be found in its inventory or related records. The National Park Service is not responsible for the determinations in this notice.

Abstract of Information Available

Based on the information available, human remains representing, at least, one individual removed from CA-SON-392 near Petaluma, CA in Sonoma County, has been reasonably identified. The 314 lots of associated funerary objects are Botanical remains; Flaked stone tools and debitage; Faunal bone tools; ground stone tools; Modified faunal bone and shell; Shell beads; Unmodified faunal bone and shell. The collection has been housed at Sonoma State University since 1974, under the following Accession Number 74-4.

Based on the information available, human remains representing, at least, six individuals removed from CA-SON-860/H near Downtown Santa Rosa, CA in Sonoma County, have been reasonably identified. The 3,455 lots of associated funerary objects are flaked stone tools and debitage, ground stone tools, faunal bone, shell, historic material, modified faunal bone, botanical remains and baked clay. The collection has been housed at Sonoma State University since 1984, under the following Accession Number 84-12.

Based on the information available, human remains representing, at least, one individual removed from CA-SON-1165 near Sebastopol, CA in Sonoma County, have been reasonably identified. The 2,304 lots of associated funerary objects are Flaked stone tools and debitage; ground stone tools; Charmstones; Unmodified faunal bone; and Dietary shell. The collection has been housed at Sonoma State University since 1979, under the following Accession Numbers 79-11.

Based on records concerning the associated funerary objects and the institution in which they were housed, there is no evidence of the three lots of cultural items being treated with hazardous substances.

Cultural Affiliation

Based on the information available and the results of consultation, cultural affiliation is clearly identified by the information available about the human remains and associated funerary objects described in this notice.

Determinations

The Sonoma State University has determined that:

• The human remains described in this notice represent the physical remains of eight individuals of Native American ancestry.

• The 6,073 objects described in this notice are reasonably believed to have been placed intentionally with or near individual human remains at the time of death or later as part of the death rite or ceremony.

• There is a connection between the human remains and associated funerary objects described in this notice and the Federated Indians of Graton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 17, 2025. If competing requests for repatriation are received, the Sonoma State University must determine the most appropriate requestor prior to repatriation. Requests for joint repatriation of the human remains and associated funerary objects are considered a single request and not competing requests. The Sonoma State University is responsible for sending a copy of this notice to the Indian Tribes and Native Hawaiian organizations identified in this notice and any other consulting parties.

Authority: Native American Graves Protection and Repatriation Act, 25 U.S.C. 3003, and the implementing regulations, 43 CFR 10.10.

Dated: June 11, 2025.
Melanie O'Brien,
Manager, National NAGPRA Program.

[FR Doc. 2025-11142 Filed 6-16-25; 8:45 am]

BILLING CODE 4312-52-P